DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: GPRA Client Outcomes for the Substance Abuse and Mental Health Services Administration (SAMHSA)—(OMB No. 0930-0208)—Revision

SAMHSA's Center for Substance Abuse Treatment (CSAT) is responsible for collecting data from discretionary services grants and contracts where client outcomes are to be assessed at three points (intake, discharge, and post-intake). SAMHSA's CSAT-funded projects are required to submit these data as a contingency of their award. The analysis of the data also will help determine whether the goal of reducing health and social costs of drug use to the public is being achieved.

The primary purpose of this data collection activity is to meet the reporting requirements of the Government Performance and Results Act (GPRA) by allowing SAMHSA to quantify the effects and accomplishments of SAMHSA's CSAT programs.

CSAT requests approval to increase the number of questions in the instrument due to the agency's need for additional information from its programs to satisfy reporting needs. The additional information needed is the following:

• Co-Occurring Disorders Screening—Over the years, CSAT has focused attention on co-occurring disorders and has established programs designed specifically for persons with both co-occurring disorders and substance abuse problems. CSAT wants to make sure that all clients are screened regardless of the types of program they enter in order to get the treatment they need. CSAT has not had a formal way of assessing whether all programs screen clients for co-occurring disorders and consequently, these disorders potentially go untreated. CSAT will be able to monitor if clients are screened and for those who screen positive, monitor their outcomes and activities per the NOMS.

• Veteran Status—Collection of these data will allow CSAT to identify the number of veterans served and the types of services they received. Identifying a client's veteran's status allows CSAT and the grantees to monitor these clients and explore whether special services or programs are needed to treat them for substance abuse and other related issues. Identification of veteran status will also allow coordination between SAMHSA and other Federal agencies in order to provide a full range of services to veterans. CSAT will also be able to monitor their outcomes and activities per the NOMS.

• HIV Test Status—SAMHSA is committed to addressing the twin epidemics of HIV and substance abuse; the agency has received funding to augment the HIV testing program and hopes to reduce the number of new cases. The goal is for at least 80 percent of the clients to be tested for HIV. The test results give clients and programs an important piece of information needed for their substance abuse treatment plans. With the testing information, CSAT will monitor the numbers of treatment clients who have been tested.

In addition, we will add a response option to an existing item:

• Housing for College Students—Housing stability is one of the NOMs and should be calculated as accurately as possible, particularly for programs that target college students such as Campus SBIRT. There currently is no way to distinguish the housing status of students living on campus from those housed elsewhere. This additional information can be captured by adding a new response option for the existing housing question.

CSAT requests approval to add a grant program to this data collection:

• CSAT will add the Access to Recovery (ATR) grant program to this data collection for the CSAT Government Performance and Results Act (GPRA) Client Outcome Measures for Discretionary Programs instrument. The Voucher Information Form (OMB 0930-0266, Expiration Date 5/31/11) and Voucher Transaction Form (OMB 0930-0266, Expiration Date 5/31/11) will remain under separate data collections. ATR requires the integration of evidence-based practices and a systematic federal scrutiny of outcomes through GPRA. The GPRA focuses on results or outcomes in evaluating the effectiveness of Federal activities and on measuring progress toward achieving national goals and objectives.

The estimated annual response burden for this data collection is provided in the table below:

Estimates of Annualized Hour Burden ¹
Center/form/respondent type | Number of respondents | Responses per respondent | Total responses | Hours per response | Total hour burden | Added burden proportion ² | Total annual burden hours | Total hour cost/ respondent ³
CSAT GPRA Client Outcome Measures for Discretionary Programs
Clients:
Adolescents | 3,900 | 4 | 15,600 | .35 | 5,460 | .37 | 2,020 | $10,403
Adults | 81,333 | 3 | 243,999 | .35 | 85,400 | .37 | 31,598 | 162,730
SBIRT ⁴ Screening Only | 150,618 | 1 | 150,618 | .13 | 19,580 | 0 | 0 |
SBIRT Brief Intervention | 27,679 | 3 | 83,037 | .20 | 16,607 | 0 | 0 |
SBIRT Brief Tx & Refer to Tx | 9,200 | 3 | 27,600 | .35 | 9,660 | .37 | 3,574 | 18,406
SBIRT Client Subtotal | 187,497 |  | 261,255 |  | 45,847 |  | 3,574 | 18,406
Client Subtotal | 272,730 |  | 520,854 |  | 136,707 |  | 37,192 | 191,539
SBIRT
Data Extract by Grants: ⁵
Adult Records | 400 grants | 70 × 3 | 210 | .18 | 38 |  | 38 | 570
Adolescent Records | 73 grants | 53 × 4 | 212 | .18 | 38 |  | 38 | 570
Screening Only | 7 grants | 21,517 × 1 | 21,517 | .07 | 1,506 |  | 1,506 | 22,590
Brief Intervention | 7 grants | 3,954 × 3 | 11,862 | .10 | 1,186 |  | 1,186 | 17,790
Brief Tx & Refer to Tx | 7 grants | 1,314 × 3 | 3,942 | .18 | 710 |  | 710 | 10,650
SBIRT Data Extract Subtotal | 494 |  | 37,743 |  |  |  | 3,402 | 52,170
Upload ⁶ | 5 grants |  | 171,639 | ( ⁸ ) | 29 |  | 29 | 435
SBIRT Upload Subtotal | 5 grants |  | 171,639 |  |  |  | 29 | 435
SBIRT Extract/Upload Subtotal | 499 |  | 209,382 |  |  |  |  |
ATR
Data Extract: ⁴
Adult Records | 53,333 | 3 | 160,000 | .16 | 25,600 |  | 25,600 | 640,000
ATR Data Extract Subtotal | 53,333 |  | 160,000 |  |  |  | 25,600 | 640,000
Upload ⁷ | 24 grants | 3 | 160,000 | ( ⁸ ) | 27 |  | 27 | 675
ATR Upload Subtotal | 24 grants |  | 160,000 |  |  |  | 27 | 675
ATR Extract/Upload Subtotal | 53,357 |  | 320,000 |  |  |  | 25,627 | 640,675
Total | 273,229 |  | 1,050,236 |  |  |  | 45,530 | 883,680
Notes:
¹ This table represents the maximum additional burden if adult respondents, for the discretionary services programs including ATR, provide three sets of responses/data and if CSAT adolescent respondents provide four sets of responses/data.
² Added burden proportion is an adjustment reflecting customary and usual business practices programs engage in (e.g., they already collect the data items).
³ Estimate based on $5.15 for program staff, $15 for IT staff, and $25 for more senior IT staff for ATR uploads.
⁴ Screening, Brief Intervention, Treatment and Referral (SBIRT) grant program:
* 150,618 Screening Only (SO) respondents complete section A of the GPRA instrument, all of these items are asked during a customary and usual intake process resulting in zero burden; and
* 27,679 Brief Intervention (BI) respondents complete sections A & B of the GPRA instrument, all of these items are asked during a customary and usual intake process resulting in zero burden; and
* 9,200 Brief Treatment (BT) & Referral to Treatment (RT) respondents complete all sections of the GPRA instrument.
⁵ Data Extract by Grants: Grant burden for capturing customary and usual data.
⁶ Upload: 5 of the 7 SBIRT grants upload data; the other 2 grants conduct direct data entry.
⁷ Upload: All 24 ATR grants upload data.
⁸ 1 hour per 6,000 records.

The estimates in this table reflect the maximum annual burden for currently funded discretionary services programs. The number of clients/participants served in following years is estimated to be the same assuming level funding of the discretionary programs, resulting in the same annual burden estimate for those years.

Send comments to Summer King, SAMHSA Reports Clearance Officer, Room 7-1044, One Choke Cherry Road, Rockville, MD 20857 and e-mail her a copy at summer.king@samhsa.hhs.gov. Written comments should be received within 60 days of this notice.

Dated: August 24, 2008.
Elaine Parry,
Acting Director, Office of Program Services.

[FR Doc. E8-20213 Filed 8-29-08; 8:45 am]

BILLING CODE 4162-20-P